ENVIRONMENTAL PROTECTION AGENCY

[FRL-8003-3]

Proposed CERCLA Administrative Cost Recovery Settlement; Gill Pond Realty Trust, Zimble Drum Superfund Site, Norwood, MA

AGENCY: Environmental Protection Agency.

ACTION: Notice of proposed settlement; request for public comment.

SUMMARY: In accordance with section 122(h) of the Comprehensive Environmental Response Compensation, and Liability Act, as amended (“CERCLA”), 42 U.S.C. 9622(i), notice is hereby given of a proposed administrative settlement for recovery of past costs concerning the Zimble Drum Superfund Site in Norwood, Massachusetts with the following settling party: Gill Pond Realty Trust. The settlement requires the settling party to pay $300,000 to the Hazardous Substance Superfund and to complete remediation of contaminated surface soils on Site. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023 (Telephone No. 617-1440).

DATES: Comments must be submitted within thirty (30) days of publication of this notice.

ADDRESSES: Comments should be addressed to Audrey Zucker, Enforcement Counsel, U.S. Environmental Protection Agency, Region I, One Congress Street, Suite 1100 (SES), Boston, Massachusetts 02114-2023 (Telephone No. 617-918-1788) and should refer to: In re: Zimble Drum Superfund Site, U.S. EPA Docket No. 01-2005-0023.

FOR FURTHER INFORMATION CONTACT: A copy of the proposed settlement may be obtained from Audrey Zucker, Enforcement Counsel, U.S. Environmental Protection Agency, Region I, One Congress Street, Suite 1100 (SES), Boston, Massachusetts 02114-2023 (Telephone No. 617-918-1788; E-mail zucker.audrey@epa.gov).

Dated: September 28, 2005.
Richard Cavagnero,
Acting Director, Office of Site Remediation and Restoration, EPA Region I.

[FR Doc. E5-6697 Filed 11-29-05; 8:45 am]

BILLING CODE 6560-50-P